DEPARTMENT OF TRANSPORTATION

Federal Aviation Administration

14 CFR Part 39

[Docket No. FAA-2011-0791; Directorate Identifier 2009-SW-29-AD; Amendment 39-16763; AD 2011-16-05]

RIN 2120-AA64

Airworthiness Directives; Eurocopter France Model SA-365N and SA-365N1 Helicopters

AGENCY: Federal Aviation Administration (FAA), Department of Transportation (DOT).

ACTION: Final rule; request for comments.

SUMMARY: This amendment adopts a new airworthiness directive (AD) for the specified Eurocopter France (Eurocopter) model helicopters. This action requires you to disconnect the high level fuel switches in the fuel tanks on the affected helicopters. In addition, for helicopters without a crossfeed between the fuel filler necks, you must install a placard on or near the center console fuel panel that specifies fuel transfer limitations. This amendment is prompted by a report that a high level fuel switch probe unit installed on a Model SA-365N helicopter in the rear (right-hand) auxiliary fuel tank group separated, causing damage to the insulation of the electrical wires which supply electrical power to the high level indicator light on the fuel control panel during a fuel transfer. This condition, if not corrected, could lead to exposure of the electrical wires, which could lead to a short circuit and activation of the indicator light without the high fuel level actually being reached. Additionally, a short circuit could become an ignition source inside the fuel tank, and result in a fuel tank explosion and subsequent loss of control of the helicopter.

DATES: This AD becomes effective on September 12, 2011.

The incorporation by reference of certain publications is approved by the Director of the Federal Register as of September 12, 2011.

We must receive comments on this AD by October 25, 2011.

ADDRESSES: Use one of the following addresses to submit comments on this AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from American Eurocopter Corporation, 2701 Forum Drive, Grand Prairie, TX 75053-4005, telephone (800) 232-0323, fax (972) 641-3710, or at http://www.eurocopter.com.

Examining the Docket: You may examine the AD docket on the Internet at http://www.regulations.gov or in person at the Docket Operations office between 9 a.m. and 5 p.m., Monday through Friday, except Federal holidays. The AD docket contains this AD, the economic evaluation, any comments received, and other information. The street address for the Docket Operations office (telephone (800) 647-5527) is stated in the ADDRESSES section of this AD. Comments will be available in the AD docket shortly after receipt.

FOR FURTHER INFORMATION CONTACT: DOT/FAA Southwest Region, George Schwab, Aviation Safety Engineer, Safety Management Group, Rotorcraft Directorate, 2601 Meacham Blvd., Fort Worth, TX 76137; telephone (817) 222-5114; fax (817) 222-5961.

SUPPLEMENTARY INFORMATION:

Discussion

The European Aviation Safety Agency (EASA), which is the Technical Agent for the Member States of the European Union, has issued EASA Emergency AD No. 2009-0109-E, dated May 7, 2009 (EAD No. 2009-0109-E), to correct an unsafe condition for the Eurocopter Model SA-365N and SA-365N1 helicopters, all serial numbers, except helicopters that have been modified with either modification kit 365A087690.00 or modification 0728B17, both of which remove the two high level fuel switches from helicopters with a crossfeed between the fuel filler necks. There has been a report that the high level fuel switch probe unit installed on a Model SA-365N helicopter in the rear (right-hand) auxiliary fuel tank group separated, causing damage to the insulation of the electrical wires which supply electrical power to the high level fuel indicator light on the fuel control panel during a fuel transfer. EASA advises that this condition, if not corrected, could lead to exposure of the electrical wires, which could lead to a short circuit and subsequent lighting of the indicator light without the high fuel level actually being reached. Additionally, a short circuit could become an ignition source inside the fuel tank, which in combination with flammable fuel vapors (if present), could result in a fuel tank explosion and subsequent loss of control of the helicopter.

Related Service Information

Eurocopter has issued Emergency Alert Service Bulletin No. 01.00.63, Revision 1, dated May 13, 2009 (EASB), for the Model AS365N and AS365N1 helicopters, which specifies disconnecting the high level switches on helicopters that have not been modified with either modification kit 365A087690.00 or modification 0728B17. The EASB also contains a limitation for helicopters without a crossfeed that allows fuel transfers between fuel tanks only if the receiving fuel tank contains less than 300 liters (240 kg or 529 lb.), in order to prevent an overflow of fuel. The EASB specifies installing a placard that lists the appropriate limitations for transferring fuel. The EASA AD classified this EASB as mandatory and issued EAD No. 2009-0109-E to ensure the continued airworthiness of these helicopters.

FAA's Evaluation and Unsafe Condition Determination

These helicopters have been approved by the aviation authority of France and are approved for operation in the United States. Pursuant to our bilateral agreement with France, EASA, their Technical Agent, has notified us of the unsafe condition described in the EASA AD. We are issuing this AD because we evaluated all information provided by EASA and determined the unsafe condition exists and is likely to exist or develop on other helicopters of these same type designs. Therefore, this AD requires, within 10 hours time-in-service, or 30 days, whichever occurs first, disconnecting the high level fuel switches on the affected helicopters that have not been modified with either modification kit 365A087690.00 or modification 0728B17. For helicopters without a crossfeed between the fuel filler necks, you must install a placard on or near the center console fuel panel. The placard (limitation) permits fuel transfer only when the receiving fuel tank has less than the placarded amount of fuel so that if the transfer switch is inadvertently left on, a minimum amount of fuel will be vented overboard. The placard must list the fuel transfer limitations using the same unit of measurement as the fuel quantity indicator. Accomplish the actions by following specified portions of the service bulletin described previously.

The short compliance time involved is required because the previously described critical unsafe condition can adversely affect the controllability of the helicopter. Therefore, this action is required in a short period of time and this AD must be issued immediately. Since a situation exists that requires the immediate adoption of this regulation, it is found that notice and opportunity for prior public comment hereon are impracticable, and that good cause exists for making this amendment effective in less than 30 days.

Differences Between This AD and the EASA AD

The EASA AD uses the term “flight hours” to describe compliance times, and we use the term “hours time-in-service.”

Costs of Compliance

There are no affected helicopters currently listed on the U.S. Registry. Therefore, the issuance of this AD will not impose any costs on U.S. operators.

Comments Invited

This AD is a final rule that involves requirements affecting flight safety, and we did not precede it by notice and opportunity for public comment. However, we invite you to send us any written data, views, or arguments concerning this AD. Send your comments to an address listed under the ADDRESSES section of this AD. Include “Docket No. FAA-2011-0791; Directorate Identifier 2009-SW-29-AD” at the beginning of your comments. We specifically invite comments on the overall regulatory, economic, environmental, and energy aspects of this AD. We will consider all comments received by the closing date and may amend this AD because of those comments.

We will post all comments we receive, without change, to http://www.regulations.gov including any personal information you provide. We will also post a report summarizing each substantive verbal contact we receive about this AD. Using the search function of the docket Web site, you can find and read the comments to any of our dockets, including the name of the individual who sent the comment. You may review the DOT's complete Privacy Act Statement in the Federal Register published on April 11, 2000 (65 FR 19477-78).

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not affect intrastate aviation in Alaska to the extent that it justifies making a regulatory distinction; and

4. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

List of Subjects in 14 CFR Part 39

Air transportation, Aircraft, Aviation safety, Incorporation by reference, Safety.

Adoption of the Amendment

Accordingly, pursuant to the authority delegated to me by the Administrator, the Federal Aviation Administration amends Part 39 of the Federal Aviation Regulations (14 CFR Part 39) as follows:

PART 39—AIRWORTHINESS DIRECTIVES

1. The authority citation for Part 39 continues to read as follows:

Authority: 49 U.S.C. 106(g), 40113, 44701.

§ 39.13 [Amended]

2. Section 39.13 by adding the following new airworthiness directive (AD) to read as follows:

2011-16-05 Eurocopter France (Eurocopter): Amendment 39-16763. Docket No. FAA-2011-0791; Directorate Identifier 2009-SW-29-AD.

Applicability: Eurocopter Model SA-365N and SA-365N1 helicopters, all serial numbers, except helicopters with a crossfeed between the fuel filler necks in which the two fuel tank high level fuel switches have been removed in accordance with modification kit 365A087690.00 or modification 0728B17; certificated in any category.

Compliance: Within 10 hours time-in-service, or 30 days, whichever occurs first, unless accomplished previously.

To prevent exposure of the electrical wires, which could lead to a short circuit and activation of the indicator light without the high fuel level actually being reached; and to prevent a short circuit, which could become an ignition source inside the fuel tank, and result in a fuel tank explosion and subsequent loss of control of the helicopter, accomplish the following:

(a) Disconnect the fuel tank high level fuel switches in accordance with the Accomplishment Instructions, paragraph 2.B.1., and by referring to Figure 1 of Eurocopter Emergency Alert Service Bulletin No. 01.00.63, Revision 1, dated May 13, 2009 (EASB).

(b) For helicopters without a crossfeed between the fuel filler necks, install a placard on or near the center console fuel panel in accordance with the Accomplishment Instructions, paragraph 2.B.2., and by referring to Figures 2 and 3 of the EASB. The placard must use the same unit of measurement as the fuel quantity indicator (i.e., liters (l), kilograms (kg) or pounds (lb)), as depicted in Figure 2 of the EASB.

(c) To request a different method of compliance or a different compliance time for this AD, follow the procedures in 14 CFR 39.19. Contact the Manager, Safety Management Group, ATTN: DOT/FAA Southwest Region, George Schwab, Aerospace Engineer, Rotorcraft Directorate, 2601 Meacham Blvd., Fort Worth, Texas 76137; telephone (817) 222-5114; fax (817) 222-5961, for information about previously approved alternative methods of compliance.

(d) The Joint Aircraft System/Component Code is 2897: Fuel System Wiring.

(e) The actions required by this AD must be done in accordance with specified portions of Eurocopter Emergency Alert Service Bulletin No. 01.00.63, Revision 1, dated May 13, 2009. The Director of the Federal Register approved this incorporation by reference in accordance with 5 U.S.C. 552(a) and 1 CFR part 51. Copies may be obtained from American Eurocopter Corporation, 2701 Forum Drive, Grand Prairie, TX 75053-4005, telephone (800) 232-0323, fax (972) 641-3710, or at http://www.eurocopter.com. Copies may be inspected at the FAA, Office of the Regional Counsel, Southwest Region, 2601 Meacham Blvd., Room 663, Fort Worth, Texas, or at the National Archives and Records Administration (NARA). For information on the availability of this material at NARA, call 202-741-6030, or go to: http://www.archives.gov/federal_register/code_of_federal_regulations/ibr_locations.html.

(f) This amendment becomes effective on September 12, 2011.

Note: The subject of this AD is addressed in European Aviation Safety Agency (France) Emergency AD No. 2009-0109-E, dated May 7, 2009.

Issued in Fort Worth, Texas, on July 21, 2011.
Kim Smith,
Manager, Rotorcraft Directorate, Aircraft Certification Service.

[FR Doc. 2011-21477 Filed 8-25-11; 8:45 am]

BILLING CODE 4910-13-P